DEPARTMENT OF THE TREASURY

Office of Thrift Supervision

12 CFR Part 563e

[No. 2007-16]

RIN 1550-AC08

Community Reinvestment Act Rule—Interagency Uniformity; Correction

AGENCY: Office of Thrift Supervision, Treasury (OTS).

ACTION: Final rule; correction.

SUMMARY: OTS is correcting an inadvertent omission and incorrect word in a final rule that appeared in the Federal Register of March 22, 2007 (72 FR 13429). That final rule reestablishes uniformity between OTS's Community Reinvestment Act (CRA) regulations and those of the other federal banking agencies.

DATES: Effective July 1, 2007.

FOR FURTHER INFORMATION CONTACT: Celeste Anderson, Senior Project Manager, Compliance and Consumer Protection, (202) 906-7990; Richard Bennett, Counsel, Regulations and Legislation Division, (202) 906-7409, Office of Thrift Supervision, 1700 G Street, NW., Washington, DC 20552.

SUPPLEMENTARY INFORMATION: In the final rule FR Doc. E7-5188 appearing on page 13429 in the Federal Register of Thursday, March 22, 2007, the following corrections are made:

§ 563.28 [Corrected]

1. On page 13435, in the third column, in § 563e.28 Assigned ratings, in paragraph (c)(1), in the first sentence, “or any affiliate” is corrected to read “or in any assessment area by any affiliate”.

Appendix A to Part 563e—Ratings [Corrected]

2. On page 13436, in the second column, in Appendix A to Part 563e—Ratings, in paragraph (d)(3)(ii)(B), in the second sentence, “a bank's performance” is corrected to read “a savings association's performance”.

Dated: April 11, 2007.
By the Office of Thrift Supervision.
Deborah Dakin,
Senior Deputy Chief Counsel.

[FR Doc. E7-7226 Filed 4-16-07; 8:45 am]

BILLING CODE 6720-01-P